DEPARTMENT OF COMMERCE

Foreign-Trade Zones Board

[B-11-2022]

Foreign-Trade Zone (FTZ) 61—San Juan, Puerto Rico; Authorization of Production Activity, AIAC International Pharma, LLC; (Pharmaceutical Products) Arecibo, Puerto Rico

On April 1, 2022, the Department of Economic Development and Commerce, grantee of FTZ 61, submitted a notification of proposed production activity to the FTZ Board on behalf of AIAC International Pharma, LLC, within Subzone 61D, in Arecibo, Puerto Rico.

The notification was processed in accordance with the regulations of the FTZ Board (15 CFR part 400), including notice in the Federal Register inviting public comment (87 FR 20813-20814, April 8, 2022). On August 1, 2022, the applicant was notified of the FTZ Board's decision that no further review of the activity is warranted at this time. The production activity described in the notification was authorized, subject to the FTZ Act and the FTZ Board's regulations, including Section 400.14.

Dated: August 1, 2022.
Andrew McGilvray,
Executive Secretary.

[FR Doc. 2022-16724 Filed 8-3-22; 8:45 am]

BILLING CODE 3510-DS-P